DEPARTMENT OF HOMELAND SECURITY

Coast Guard

46 CFR Part 1

[USCG-2006-24520]

RIN 1625-AB03

Coast Guard Organization; Activities Europe; Correction

AGENCY: Coast Guard, DHS.

ACTION: Correcting amendment.

SUMMARY: Final rule USCG-2006-24520, related to the Coast Guard's organization for marine safety functions, as affected by a change in the operational and administrative control of Activities Europe, was published in the Federal Register of June 22, 2006 (71 FR 35816). That final rule document contained an error that unintentionally resulted in the removal of several paragraphs of text in the Code of Federal Regulations. This final rule corrects that omission.

DATES: Effective on October 12, 2006.

FOR FURTHER INFORMATION CONTACT: If you have questions on this rule, call Mr. D. Skewes, Coast Guard, telephone 202-267-0418 or e-mail DSkewes@comdt.uscg.mil. If you have questions on viewing the docket, call Renee V. Wright, Program Manager, Docket Operations, telephone 202-493-0402.

SUPPLEMENTARY INFORMATION: The Coast Guard published a document in the Federal Register of June 22, 2006 (71 FR 35816) amending, among other sections, 46 CFR 1.01-15 (a). The amendment inadvertently deleted paragraphs (a)(1) and (a)(2), concerning the activities of Marine Safety and Boating Safety Divisions. This correction restores the inadvertently deleted paragraphs.

List of Subjects in 46 CFR Part 1

Administrative practice and procedure, Organization and functions (Government agencies), Reporting and recordkeeping requirements.

Accordingly, 46 CFR part 1 is corrected by making the following correcting amendment:

PART 1—ORGANIZATION, GENERAL COURSE AND METHODS GOVERNING MARINE SAFETY FUNCTIONS

1. The authority citation for part 1 continues to read as follows:

Authority: 5 U.S.C. 552; 14 U.S.C. 633; 46 U.S.C. 7701; 46 U.S.C. Chapter 93; Pub. L. 107-296, 116 Stat. 2135; Department of Homeland Security Delegation No. 0170.1; § 1.01-35 also issued under the authority of 44 U.S.C. 3507.

2. Revise paragraph (a) of § 1.01-15 to read as follows:

§ 1.01-15 Organization; Districts; National Maritime Center.

(a) To assist the District Commander, and the Atlantic Area Commander with respect to Activities Europe, in carrying out the regulatory and enforcement aspects of marine safety, there is assigned to each District Commander and to the Atlantic Area Commander a staff officer designated as Chief, Marine Safety Division. The chain of military command is from the District Commander to each Officer in Charge, Marine Inspection, within the district and from the Atlantic Area Commander to the Officer in Charge, Activities Europe. The Chief of the Marine Safety Division is a staff officer assigned to the District Commanders and Atlantic Area Commander, and acts only on the basis of the authority and direction of the District Commanders, and the Atlantic Area Commanders with respect to Activities Europe.

(1) The Chiefs, Marine Safety Division, in the District Offices, under the supervision of their respective District Commanders, direct the activities of their district relative to vessel, factory and shipyard inspections; reports and investigations of marine casualties and accidents; processing of violations of navigation and vessel inspection laws; the licensing, certificating, shipment and discharge of seamen; the investigation and institution of proceedings looking to suspension and revocation under 46 U.S.C. chapter 77 of licenses, certificates, and documents held by persons; and all other marine safety regulatory activities except those functions related to recreational boating when under the supervision of the Chiefs, Boating Safety Division, in the District Offices.

(2) Unless otherwise provided for, the Chiefs, Boating Safety Division, in the District Offices, under the supervision of their respective District Commanders, direct the activities in their districts relative to administration of the law enforcement program applicable to uninspected vessels used for recreational purposes and the imposition and collection of penalties in connection therewith; maintain liaison with Federal and State agencies having related interests; develop and coordinate agreements and arrangements with Federal and State agencies for cooperation in the enforcement of State and Federal laws related to recreational boating; and review investigative reports of recreational boating accidents.

* * * * *

Dated: October 5, 2006.
S.G. Venckus,
Chief, Office of Regulations and Administrative Law, United States Coast Guard.

[FR Doc. E6-16904 Filed 10-11-06; 8:45 am]

BILLING CODE 4910-15-P